DEPARTMENT OF HOMELAND SECURITY

8 CFR Parts 103, 207, 208, 211, 212, 213a, 244; 245, 324; 335

[CIS No. 2481-09; Docket No. USCIS-2009-0022]

RIN 1615-AB83

Immigration Benefits Business Transformation, Increment I; Correction

AGENCY: U.S. Citizenship and Immigration Services, DHS.

ACTION: Final rule; correction.

SUMMARY: The Department of Homeland Security (DHS) makes technical corrections to a final rule published in the Federal Register on August 29, 2011. The final rule amended DHS regulations to enable U.S. Citizenship and Immigration Services (USCIS) to transform its business processes. The final rule also finalized seven interim rules.

DATES: This final rule is effective November 28, 2011.

FOR FURTHER INFORMATION CONTACT: Dan Konnerth, Policy Chief, Office of Transformation Coordination, U.S. Citizenship and Immigration Services, Department of Homeland Security, 633 Third St. NW., Washington, DC 20529-2210; telephone (202) 233-2381.

SUPPLEMENTARY INFORMATION:

Need for Correction

On August 29, 2011, the Department of Homeland Security (DHS) issued a final rule that amended more than fifty parts of Title 8 of the Code of Federal Regulations and finalized seven interim rules. Immigration Benefits Business Transformation, Increment I, 76 FR 53764 (Aug. 29, 2011). The final rule removed form titles, number references, and position titles. The final rule also removed obsolete and expired regulatory provisions and corrected provisions that were affected by statutory changes.

DHS provided a 60-day public comment period and a 90-day effective date to provide the public with an opportunity to review the regulatory text and point out any errors made in the published final rule before it becomes effective. DHS has reviewed the public comments on the docket of this final rule and determined that several errors and omissions require correction. Specifically, through technical drafting oversights, DHS:

• Instructed the removal of the phrase “petitions and applications” instead of instructing the removal of the phrase “applications or petitions” and “applications and petitions” in 8 CFR 103.2;

• Omitted the substitution of “benefit request” for “application or benefit” in 8 CFR 103.2(b)(5);

• Incorrectly amended the second sentence of 8 CFR 103.2(b)(19) by removing the term “petitioner” and inserting “beneficiary”;

• Omitted instructional text for reserving 8 CFR 103.20 through 103.36 after they are removed;

• Omitted the substitution of “USCIS” for the terms “The USCIS”, “the BCIS”, and “The BCIS” in 8 CFR 103.2;

• Omitted references to the title of the form required for accompanying or following-to-join derivatives of refugees in 8 CFR 207.7 and for admission of asylee spouses and children in 8 CFR 208.21;

• Omitted the substitution of “Permanent Resident Card” for “permanent resident card” in 8 CFR 211.5(c);

• Provided conflicting instructions affecting paragraph (b)(1) of 8 CFR 212.2;

• Incorrectly instructed that the heading for 8 CFR 212.7 be revised;

• Incorrectly instructed to revise terms in the second sentence of the introductory text of paragraph (m)(2) of 8 CFR 212.15;

• Omitted the term “a” from the amendatory text being revised in 8 CFR 213.2a;

• Incorrectly included the term “in” in the text being revised in 8 CFR 213.2a(c)(2)(i)(A);

• Omitted instructional text for revising the following terms in 8 CFR 213a.2:

○ The terms “Form I-864 or I-864A”, “a Form I-864 or I-864A”, “Form I-864 and I-864A” to read “affidavit of support”;

○ The terms “any Forms I-864A” to read “affidavit of support and any required attachments”;

○ The term “any Form I-864A” to read “any affidavit of support or required attachment”;

○ The term “Forms I-864” to read “affidavits of support”;

○ The term “I-864A” to read “affidavit of support attachment”; and

○ The term “A Form I-864” to read “An affidavit of support”.

• Omitted the term “Form” from the text being revised in 8 CFR 324.2;

• Omitted the term “the” from the text being revised in 8 CFR 244.7(b) and 8 CFR 244.14(a)(3);

• Provided conflicting instructions affecting 8 CFR 245.21(j); and

• Erroneously instructed to change the term “district director” to read “USCIS” and omitted instructions to revise the term “the Service” to read “USCIS” in 8 CFR 335.9.

Correction of Publication

Accordingly, the publication on August 29, 2011 (76 FR 53764) of the final rule that was the subject of FR Doc. 2011-20990 is corrected as follows:

PART 103—IMMIGRATION BENEFITS; BIOMETRIC REQUIREMENTS; AVAILABILITY OF RECORDS

Subpart A—Applying for Benefits, Surety Bonds, Fees

§ 103.2 [Corrected]

1. On page 53780, second column, revise amendatory 8a. to read as follows:

“8 * * *

a. Removing the phrases “applications and petitions” and “applications or petitions” and adding in their place the term “benefit requests”; removing the term “an application or petition” and adding in its place “a benefit request”; removing the term “application or petition” and adding in its place “benefit request”; and removing the terms “the BCIS”, “The BCIS”, and “The USCIS” and adding in their place the term “USCIS” as they appear in the following portions of the final rule:”.

2. On page 53780, third column, amend amendatory instruction 8j. by adding at the end before the semicolon “and revising the term “application or benefit” to read “benefit request” in the third sentence of paragraph (b)(5)”.

3. On page 53780, third column, revise amendatory instruction 8k. to read as follows:

“8. * * *

k. Revising the term “application, petition or document” to read “a benefit request” in paragraph (b)(7);”

4. On page 53781, first column, in paragraph (b)(19), remove the word “beneficiary” from the end of the paragraph and add “petitioner” in its place.

§ 103.7 [Corrected]

5. On page 53781, second column, revise amendatory instruction 14a. to read as follows:

“14. Revising the terms “The BCIS” and “BCIS” to read “USCIS” wherever that term appears in paragraph (a)(1);”.

§§ 103.20-103.36 [Corrected]

6. On page 53782, second column, revise amendatory instruction 21 to read as follows:

“21. Sections 103.20 through 103.36 are removed and reserved.”.

PART 207—ADMISSION OF REFUGEES

7. On page 53783, third column, amendment 39, revise the amendatory language for the revisions to paragraphs (d) and (f) to read as follows:

§ 207.7 Derivatives of refugees.

* * * * *

(d) Filing. A refugee may request accompanying or following-to-join benefits for his or her spouse and unmarried, minor child(ren) (whether the spouse and children are inside or outside the United States) by filing a separate Request for Refugee/Asylee Relative in accordance with the form instructions for each qualifying family member. The request may only be filed by the principal refugee. Family members who derived their refugee status are not eligible to request derivative benefits on behalf of their spouse and child(ren). A separate Request for Refugee/Asylee Relative must be filed for each qualifying family member within two years of the refugee's admission to the United States unless USCIS determines that the filing period should be extended for humanitarian reasons. There is no time limit imposed on a family member's travel to the United States once the Request for Refugee/Asylee Relative has been approved, provided that the relationship of spouse or child continues to exist and approval of the Request for Refugee/Asylee Relative has not been subsequently revoked. There is no fee for this benefit request.

* * * * *

(f) Approvals. (1) Spouse or child in the United States. When a spouse or child of a refugee is in the United States and the Request for Refugee/Asylee Relative is approved, USCIS will notify the refugee of such approval. Employment will be authorized incident to status.

(2) Spouse or child outside the United States. When a spouse or child of a refugee is outside the United States and the Request for Refugee/Asylee Relative is approved, USCIS will notify the refugee of such approval. USCIS will send the approved request to the Department of State for transmission to the U.S. Embassy or Consulate having jurisdiction over the area in which the refugee's spouse or child is located.

(3) Benefits. The approval of the Request for Refugee/Asylee Relative will remain valid for the duration of the relationship to the refugee and, in the case of a child, while the child is under 21 years of age and unmarried, provided also that the principal's status has not been revoked. However, the approved Request for Refugee/Asylee Relative will cease to confer immigration benefits after it has been used by the beneficiary for admission to the United States as a derivative of a refugee. For a derivative inside or arriving in the United States, USCIS will issue a document reflecting the derivative's current status as a refugee to demonstrate employment authorization, or the derivative may apply, under 8 CFR 274a.12(a), for evidence of employment authorization.

* * * * *

PART 208—PROCEDURES FOR ASYLUM AND WITHHOLDING OF REMOVAL

8. On page 53784, third column, amendment 50, revise the amendatory language for paragraphs (c) and (d) to read as follows:

§ 208.21 Admission of the asylee's spouse and children.

* * * * *

(c) Spouse or child in the United States. When a spouse or child of an alien granted asylum is in the United States, but was not included in the asylee's benefit request, the asylee may request accompanying or following-to-join benefits for his or her spouse or child, by filing for each qualifying family member a Request for Refugee/Asylee Relative, with supporting evidence, and in accordance with the form instructions, regardless of the status of that spouse or child in the United States. A separate Request for Refugee/Asylee Relative must be filed by the asylee for each qualifying family member within two years of the date in which he or she was granted asylum status, unless it is determined by USCIS that this period should be extended for humanitarian reasons. Upon approval of the Request for Refugee/Asylee Relative, USCIS will notify the asylee of such approval. Employment will be authorized incident to status. To demonstrate employment authorization, USCIS will issue a document reflecting the derivative's current status as an asylee, or the derivative may apply, under 8 CFR 274a.12(a), for employment authorization. The approval of the Request for Refugee/Asylee Relative will remain valid for the duration of the relationship to the asylee and, in the case of a child, while the child is under 21 years of age and unmarried, provided also that the principal's status has not been revoked. However, the approved Request for Refugee/Asylee Relative will cease to confer immigration benefits after it has been used by the beneficiary for admission to the United States as a derivative of an asylee.

(d) Spouse or child outside the United States. When a spouse or child of an alien granted asylum is outside the United States, the asylee may request accompanying or following-to-join benefits for his or her spouse or child(ren) by filing a separate Request for Refugee/Asylee Relative for each qualifying family member in accordance with the form instructions. A separate Request for Refugee/Asylee Relative for each qualifying family member must be filed within two years of the date in which the asylee was granted asylum, unless USCIS determines that the filing period should be extended for humanitarian reasons. When the Request for Refugee/Asylee Relative is approved, USCIS will notify the asylee of such approval. USCIS also will send the approved request to the Department of State for transmission to the U.S. Embassy or Consulate having jurisdiction over the area in which the asylee's spouse or child is located. The approval of the Request for Refugee/Asylee Relative will remain valid for the duration of the relationship to the asylee and, in the case of a child, while the child is under 21 years of age and unmarried, provided also that the principal's status has not been revoked. However, the approved Request for Refugee/Asylee Relative will cease to confer immigration benefits after it has been used by the beneficiary for admission to the United States as a derivative of an asylee.

* * * * *

PART 212—DOCUMENTARY REQUIREMENTS: NONIMMIGRANTS; WAIVERS; ADMISSION OF CERTAIN INADMISSIBLE ALIENS; PAROLE

§ 212.2 [Corrected]

9. On page 53786, second column, remove amendment 64.a and redesignate 64b through f as 64a through e accordingly.

§ 212.7 [Corrected]

10. On page 53787, first column, remove amendment 69.a. and redesignate 69b through m as 69a through l accordingly.

§ 212.15 [Corrected]

11. On page 53788, first column, revise amendatory instruction 75h. to read as follows:

75. * * *

h. “Revising the term “Form I-905” to read “the request” in paragraph (m)(2).”.

PART 213a—AFFIDAVITS OF SUPPORT ON BEHALF OF ALIENS

§ 213a.2 [Corrected]

12. On page 53788, second column, revise amendatory instruction 80-82d. to read as follows:

“80-82 * * *

d. Revising the phrase “the Form I-130 or Form I-600 immigrant visa petition (or the Form I-129F petition, for a K nonimmigrant seeking adjustment)” to read “a relative, orphan or fiancé(e) petition” in the first sentence of paragraph (b)(1);”.

13. On page 53788, second column, revise amendatory instruction 80-82e. to read as follows:

“80-82 * * *

e. Revising the phrase “Form I-864P Poverty Guidelines” to read “the Poverty Guidelines” in paragraph (c)(2)(i)(A);”.

14. On page 53788, third column, revise the introductory text to amendatory instruction 80-82l. to read as follows:

“80-82 * * *

l. Section 213a.2 is further amended by revising the term “Forms I-864” to read “affidavits of support” and the term “A Form I-864” to read “An affidavit of support” and the terms “Form I-864” and “the Form I-864” to read “an affidavit of support” wherever those terms appear in the following places:”

15. On page 53788, third column, amendment 80-82, add new instructions n. and o. to read as follows:

n. Section 213a.2 is further amended by revising the terms “any Forms I-864A” to read “any affidavit of support attachments” and the term “any Form I-864A” to read “any affidavit of support attachment” wherever those terms appear in paragraphs (a)(1)(ii), (iii), (iv), and (v).

o. Section 213a.2 is further amended by revising the term “Form I-864 or I-864A” to read “affidavit of support and any required attachments”; the term “I-864A” to read “affidavit of support attachment”; and the term “a Form I-864 or I-864A” to read “an affidavit of support and any required attachments” wherever those terms appear in the following places:

i. Paragraph (a)(1)(v)(A);

ii. Paragraph (c)(2)(v); and

iii. Paragraph (e)(2)(i)(D).”

PART 244—TEMPORARY PROTECTED STATUS FOR NATIONALS OF DESIGNATED STATES

§ 244.7 [Corrected]

16. On pages 53791, third column, revise amendatory instruction 108.b. to read as follows:

“108. * * *

b. Revising the term “the Attorney General” to read “DHS” in paragraph (b);”

§ 244.14 [Corrected]

17. On pages 53792, second column, revise amendatory instruction 113.d. to read as follows:

“113. * * *

d. Revising the term “the Attorney General” to read “DHS” in paragraph (a)(3);”.

PART 245—ADJUSTMENT OF STATUS TO THAT OF PERSON ADMITTED FOR PERMANENT RESIDENCE

§ 245.21 [Corrected]

18. On page 53794, first column, amendment 129-130, remove instruction j. and redesignate instructions k. and l. as j. and k., respectively.

19. On page 53794, first column, revise the introductory text to newly redesignated amendatory instruction 129-130k to read as follows:

“129-130. * * *

k. By revising the terms “Service”, “The Service” and “the Service” to read “USCIS” and the term “Service's” to read “USCIS's” wherever the terms appear in the following paragraphs:”.

PART 324—SPECIAL CLASSES OF PERSONS WHO MAY BE NATURALIZED: WOMEN WHO HAVE LOST UNITED STATES CITIZENSHIP BY MARRIAGE AND FORMER CITIZENS WHOSE NATURALIZATION IS AUTHORIZED BY PRIVATE LAW

§ 324.2 [Corrected]

20. On page 53800, first column, revise amendatory instruction 191 to read as follows:

“191. In § 324.2, paragraph (b) is amended by revising the term “Form N-400, as required by § 316.4 of this chapter” to read “the form designated by USCIS in accordance with the form instructions and with the fee prescribed in 8 CFR 103.7(b)(1) as required by 8 CFR 316.4”.”

PART 335—EXAMINATION ON APPLICATION FOR NATURALIZATION\

§ 335.9 [Corrected]

21. On page 53801, third column, revise amendatory instruction 220.b. to read as follows:

“220. * * *

b. Revising the terms “district director”, “The district director”, “the district director”, and “the Service” to read “USCIS” and the term “Service's” to read “USCIS's”.”

Christina E. McDonald,
Associate General Counsel for Regulatory Affairs.

[FR Doc. 2011-30510 Filed 11-28-11; 8:45 am]

BILLING CODE 9111-97-P